SECURITIES AND EXCHANGE COMMISSION

[File No. 500-1]

In The Matter of China Medical Technologies, Inc.; Order of Suspension of Trading

June 29, 2012.

It appears to the Securities and Exchange Commission that there is a lack of current and accurate information concerning the securities of China Medical Technologies, Inc. (“China Medical”) because of questions regarding the accuracy and adequacy of disclosures by China Medical concerning, among other things: (1) The status of the company's officers and directors, (2) the accuracy of the company's financial statements filed with the Commission, and (3) the current financial condition of the company. China Medical's securities are quoted on OTC Link operated by OTC Markets Group Inc. under the ticker symbol “CMEDY.”

The Commission is of the opinion that the public interest and the protection of investors require a suspension of trading in the securities of the above-quoted company.

Therefore, it is ordered, pursuant to Section 12(k) of the Securities Exchange Act of 1934, that trading in the securities of the above-quoted company is suspended for the period from 9:30 a.m. EDT, on June 29, 2012 through 11:59 p.m. EDT, on July 13, 2012.

By the Commission.
Elizabeth M. Murphy,
Secretary.

[FR Doc. 2012-16397 Filed 6-29-12; 11:15 am]

BILLING CODE 8011-01-P